DEPARTMENT OF LABOR

Employment and Training Administration

[TA-W-62,368]

G-Tech Professional Staffing, Inc., Leased On-Site Workers Employed at Ford Motor Company Wixom Assembly Plant; Wixom, MI; Notice of Termination of Investigation

Pursuant to Section 221 of the Trade Act of 1974, as amended, an investigation was initiated on October 26, 2007 in response to a worker petition filed by the State Workforce Office on behalf of workers of G-Tech Professional Staffing employed at Ford Motor Company Wixom Assembly Plant in Wixom, Michigan.

The petitioning group of workers is covered by an active certification, TA-W-61,324. That certification was part of an Amended Notice of Revised Determination issued on November 14, 2007, and expiring on August 22, 2009.

Signed at Washington, DC this 26th day of November 2007.
Richard Church,
Certifying Officer, Division of Trade Adjustment Assistance.

[FR Doc. E7-23377 Filed 11-30-07; 8:45 am]

BILLING CODE 4510-FN-P